DEPARTMENT OF COMMERCE

International Trade Administration

[A-570-832]

Amended Final Results of the 2008-2009 Antidumping Duty Administrative Review: Pure Magnesium From the People's Republic of China

AGENCY: Import Administration, International Trade Administration, Department of Commerce.

SUMMARY: On December 23, 2010, the Department of Commerce (“the Department”) published in the Federal Register the Final Results of the 2008-2009 administrative review of the antidumping duty order on pure magnesium from the People's Republic of China (“PRC”).¹ The period of review (“POR”) covers May 1, 2008, through April 30, 2009. We are amending our Final Results to correct ministerial errors made in the calculation of the antidumping duty margin for Tianjin Magnesium International Co., Ltd. (“TMI”), pursuant to section 751(h) of the Tariff Act of 1930, as amended (“Act”).

¹ See Pure Magnesium From the People's Republic of China: Final Results of the 2008-2009 Antidumping Duty Administrative Review of the Antidumping Duty Order, 75 FR 80791 (December 23, 2010) (“Final Results”), and accompanying Issues and Decision Memorandum.

DATES: Effective Date: (December 23, 2010).

FOR FURTHER INFORMATION CONTACT: Laurel LaCivita, AD/CVD Operations, Office 8, Import Administration, International Trade Administration, U.S. Department of Commerce, 14th Street and Constitution Avenue, NW., Washington, DC 20230; telephone: (202) 482-4243.

SUPPLEMENTARY INFORMATION:

Background

On December 23, 2010, the Department published the Final Results of the 2008-2009 administrative review of the antidumping duty order on pure magnesium from the PRC. In accordance with 19 CFR 351.224(b), the Department disclosed the details of its calculations in the Final Results to all interested parties on December 20, 2010.² On December 23 and 27, 2010, respectively, US Magnesium LLC (“Petitioner”) and TMI filed timely ministerial error allegations with respect to the Department's antidumping duty margin calculations for TMI in the Final Results. Petitioner provided rebuttal comments concerning TMI's ministerial error allegation on January 3, 2011. No other party provided ministerial error comments regarding the Final Results of this review.

² See Memorandum to the File, “Pure Magnesium from the People's Republic of China: Release of the Business-Proprietary Version of TMI's Final Analysis Memorandum,” dated December 20, 2010.

Scope of the Order

Merchandise covered by this order is pure magnesium regardless of chemistry, form or size, unless expressly excluded from the scope of this order. Pure magnesium is a metal or alloy containing by weight primarily the element magnesium and produced by decomposing raw materials into magnesium metal. Pure primary magnesium is used primarily as a chemical in the aluminum alloying, desulfurization, and chemical reduction industries. In addition, pure magnesium is used as an input in producing magnesium alloy. Pure magnesium encompasses products (including, but not limited to, butt ends, stubs, crowns and crystals) with the following primary magnesium contents:

(1) Products that contain at least 99.95% primary magnesium, by weight (generally referred to as “ultra pure” magnesium);

(2) Products that contain less than 99.95% but not less than 99.8% primary magnesium, by weight (generally referred to as “pure” magnesium); and

(3) Products that contain 50% or greater, but less than 99.8% primary magnesium, by weight, and that do not conform to ASTM specifications for alloy magnesium (generally referred to as “off-specification pure” magnesium).

“Off-specification pure” magnesium is pure primary magnesium containing magnesium scrap, secondary magnesium, oxidized magnesium or impurities (whether or not intentionally added) that cause the primary magnesium content to fall below 99.8% by weight. It generally does not contain, individually or in combination, 1.5% or more, by weight, of the following alloying elements: Aluminum, manganese, zinc, silicon, thorium, zirconium and rare earths.

Excluded from the scope of this order are alloy primary magnesium (that meets specifications for alloy magnesium), primary magnesium anodes, granular primary magnesium (including turnings, chips and powder) having a maximum physical dimension (i.e., length or diameter) of one inch or less, secondary magnesium (which has pure primary magnesium content of less than 50% by weight), and remelted magnesium whose pure primary magnesium content is less than 50% by weight.

Pure magnesium products covered by this order are currently classifiable under Harmonized Tariff Schedule of the United States (HTSUS) subheadings 8104.11.00, 8104.19.00, 8104.20.00, 8104.30.00, 8104.90.00, 3824.90.11, 3824.90.19 and 9817.00.90. Although the HTSUS subheadings are provided for convenience and customs purposes, our written description of the scope is dispositive.

Ministerial Errors

A ministerial error is defined in section 751(h) of the Tariff Act of 1930, as amended (“the Act”), and further clarified in 19 CFR 351.224(f) as “an error in addition, subtraction, or other arithmetic function, clerical error resulting from inaccurate copying, duplication, or the like, and any other type of unintentional error which the {Secretary} considers ministerial.”

After analyzing all interested parties' allegations and rebuttals, in accordance with section 735(e) of the Act and 19 CFR 351.224(e), we have determined that we made ministerial errors in the normal value and net U.S. price calculations for TMI in the Final Results. For a detailed discussion of these ministerial errors, as well as the Department's analysis of the errors and allegations, see the Memorandum to the File, “Ministerial Error Memorandum for the Final Results of the 2008-2009 Administrative Review of Pure Magnesium From the People's Republic of China, dated February 4, 2011, on file in the Central Records Unit, room 7047 in the main Department building.

Therefore, in accordance with section 751(h) of the Act and 19 CFR 351.224(e), we are amending the Final Results of the administrative review of pure magnesium from the PRC. The revised weighted-average dumping margin TMI is as follows:

Exporter | Original weighted-average percent margin | Amended weighted-average percent margin
Tianjin Magnesium International Co., Ltd | 0.73 | 0.80

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation that is subject to sanction.

Disclosure

We will disclose the calculations performed for these amended final results within five days of the date of publication of this notice to interested parties in accordance with 19 CFR 351.224(b).

Assessment Rates

The Department will determine, and U.S. Customs and Border Protection (“CBP”) shall assess, antidumping duties on all appropriate entries of subject merchandise in accordance with the Final Results of this review. For assessment purposes, we calculated exporter/importer- (or customer)-specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer-(or customer)-specific assessment rate is de minimis (i.e., less than 0.50 percent), the Department will instruct CBP to assess that importer (or customer's) entries of subject merchandise without regard to antidumping duties. We intend to instruct CBP to liquidate entries containing subject merchandise exported by the PRC-wide entity at the PRC-wide rate we determined in the Final Results of this review. The Department intends to issue appropriate assessment instructions directly to CBP 15 days after publication of the amended final results of this review.

Cash Deposit Requirements

The following cash deposit requirements will be effective on any entries made on or after December 23, 2010, the date of publication of the Final Results, for all shipments of the subject merchandise entered, or withdrawn from warehouse, for consumption on or after the publication date, as provided for by section 751(a)(2)(C) of the Act: (1) For the exporters listed above, the cash deposit rate will be the rate shown for those companies (except if the rate is de minimis, i.e., less than 0.50 percent, a zero cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 111.73 percent; and (4) for all non-PRC exporters of subject merchandise which have not received their own rate, the cash deposit rate will be the rate applicable to the PRC exporters that supplied that non-PRC exporter. These deposit requirements shall remain in effect until further notice.

These amended final results are published in accordance with sections 751(h) and 777(i)(1) of the Act.

Dated: February 3, 2011.
Ronald K. Lorentzen,
Deputy Assistant Secretary for Import Administration.

[FR Doc. 2011-3139 Filed 2-10-11; 8:45 am]

BILLING CODE P